DEPARTMENT OF TRANSPORTATION

Federal Aviation Administration

14 CFR Part 39

[Docket No. FAA-2025-5041; Project Identifier MCAI-2025-01620-Q; Amendment 39-23210; AD 2025-25-02]

RIN 2120-AA64

Airworthiness Directives; Aerospace & Defense Oxygen Systems SaS (Part of Safran Aerosystems) (Formerly Known as Air Liquide)

AGENCY: Federal Aviation Administration (FAA), DOT.

ACTION: Final rule; request for comments.

SUMMARY: The FAA is adopting a new airworthiness directive (AD) for all aircraft equipped with certain Aerospace & Defense Oxygen Systems SaS portable breathing equipment (PBE). This AD was prompted by reports of occurrences of incorrect usage of certain PBEs. This AD requires incorporating revised procedures for donning the PBE. The FAA is issuing this AD to address the unsafe condition on these products.

DATES: This AD is effective December 24, 2025.

The Director of the Federal Register approved the incorporation by reference of a certain publication listed in this AD as of December 24, 2025.

The FAA must receive comments on this AD by January 23, 2026.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-5041; or in person at Docket Operations between 9 a.m. and 5 p.m., Monday through Friday, except Federal holidays. The AD docket contains this final rule, the mandatory continuing airworthiness information (MCAI), any comments received, and other information. The street address for Docket Operations is listed above.

Material Incorporated by Reference:

• For Safran Aerosystems material identified in this AD, contact Safran Aerosystems, Customer Support & Services, Technical Publication Department, 61 Rue Pierre Curie, CS20001, 78373 Plaisir Cedex, France; phone + 33 (0)1 61 34 23 23; email tech-support.sao@safrangroup.com; website www.safran-aerosystems.com.

• You may view this material at the FAA, Airworthiness Products Section, Operational Safety Branch, 2200 South 216th St., Des Moines, WA. For information on the availability of this material at the FAA, call 206-231-3195. It is also available at regulations.gov under Docket No. FAA-2025-5041.

FOR FURTHER INFORMATION CONTACT: Harjot Rana, Aviation Safety Engineer, FAA, 1600 Stewart Avenue, Suite 410, Westbury, NY 11590; phone: 516-228-7344; email: 9-AVS-AIR-BACO-COS@faa.gov.

SUPPLEMENTARY INFORMATION:

Comments Invited

The FAA invites you to send any written relevant data, views, or arguments about this final rule. Send your comments using a method listed under the ADDRESSES section. Include “Docket No. FAA-2025-5041; Project Identifier MCAI-2025-01620-Q” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Harjot Rana, Aviation Safety Engineer, FAA, 1600 Stewart Avenue, Suite 410, Westbury, NY 11590; phone: 516-228-7344; email: 9-AVS-AIR-BACO-COS@faa.gov. Any commentary that the FAA receives which is not specifically designated as CBI will be placed in the public docket for this rulemaking.

Background

The European Union Aviation Safety Agency (EASA), which is the Technical Agent for the Member States of the European Union, has issued EASA AD 2025-0222, dated October 13, 2025 (EASA AD 2025-0222) (also referred to as the MCAI), to correct an unsafe condition on Aerospace & Defense Oxygen Systems SaS (part of Safran Aerosystems) (formerly Air Liquide) PBE, part number (P/N) 15-40F-11 and P/N 15-40F-80, all serial numbers. The MCAI states that occurrences of incorrect usage of PBE have been reported. This condition, if not corrected, could lead to flight or cabin crewmember incapacitation, possibly affecting crewmember capability to accomplish tasks during an emergency, or resulting in fatal injury to that crewmember. Relevant investigations identified that the PBE operational manual provides instructions that can be misunderstood by a flight or cabin crewmember, possibly leading to errors while donning the PBE.

The FAA is issuing this AD to address the unsafe condition on these products. You may examine the MCAI in the AD docket at regulations.gov under Docket No. FAA-2025-5041.

Material Incorporated by Reference Under 1 CFR Part 51

The FAA reviewed Safran Aerosystems Service Bulletin 1540F-35-001, dated October 10, 2025. This material clarifies procedures for the proper donning of PBE P/N 15-40F-11 and P/N 15-40F-80 to prevent adverse effects from non-activation of the oxygen system, with additional warnings against inserting hands into the packaging and ensuring only the black neck seal is grabbed to avoid damage. The donning process includes detailed steps on deploying the hood and emphasizes the importance of hearing the oxygen flow noise immediately after donning.

This material is reasonably available because the interested parties have access to it through their normal course of business or by the means identified in the ADDRESSES section.

FAA's Determination

These products have been approved by the civil aviation authority of another country and are approved for operation in the United States. Pursuant to the FAA's bilateral agreement with this State of Design Authority, that authority has notified the FAA of the unsafe condition described in the MCAI and material referenced above. The FAA is issuing this AD after determining that the unsafe condition described previously is likely to exist or develop on other products of the same type design.

AD Requirements

This AD requires incorporating revised procedures for donning certain PBE into the existing maintenance or inspection program, as applicable (for transport category airplanes); into maintenance records (for non-transport category aircraft that must comply with 14 CFR 91.417(a)(2) or 135.439(a)(2)); or into the existing approved maintenance or inspection program, as applicable (for other non-transport category aircraft).

For non-transport category aircraft: The owner/operator (pilot) holding at least a private pilot certificate may perform the required action for that aircraft provided compliance with the applicable paragraph of this AD is entered into the aircraft maintenance records in accordance with 14 CFR 43.9(a) and 91.417(a)(2)(v). The pilot may perform this action because it only involves incorporating revised procedures for donning the PBE. This action could be performed equally well by a pilot or a mechanic. This is an exception to the FAA's standard maintenance regulations.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because incorrect usage of PBEs could lead to flight or cabin crewmember incapacitation, possibly affecting crewmember capability to accomplish tasks during an emergency, or resulting in fatal injury to that crewmember. The PBEs are designed to protect the user's eyes and respiratory tract in a contaminated atmosphere, which provides the ability to locate and combat a fire. Additionally, the compliance time in this AD is shorter than the time necessary for the public to comment and for publication of the final rule. Accordingly, notice and opportunity for prior public comment are impracticable and contrary to the public interest pursuant to 5 U.S.C. 553(b).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects approximately 80,000 appliances installed on but not limited to transport category airplanes. The FAA estimates the following costs to comply with this AD:

Estimated Costs for Required Actions
Labor cost | Parts cost | Cost per product | Cost on U.S. operators
1 work-hour × $85 per hour = $85 | $0 | $85 | Up to $6,800,000.*
* It is unknown how many of the 80,000 appliances are installed on U.S. registered aircraft.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-25-02 Aerospace & Defense Oxygen Systems SaS (Part of Safran Aerosystems) (Formerly Known as Air Liquide): Amendment 39-23210; Docket No. FAA-2025-5041; Project Identifier MCAI-2025-01620-Q.

(a) Effective Date

This airworthiness directive (AD) is effective December 24, 2025.

(b) Affected ADs

None.

(c) Applicability

This AD applies to Aerospace & Defense Oxygen Systems SaS (part of Safran Aerosystems) (formerly known as Air Liquide) portable breathing equipment (PBE), part number (P/N) 15-40F-11 and P/N 15-40F-80, all serial numbers. These PBEs are eligible for installation on any aircraft and may have been installed during the aircraft manufacturing process (production line), or in-service modification, either through a supplemental type certificate, or using type certificate holder (TCH) approved modification instructions, or through a non-TCH modification approval.

(d) Subject

Air Transport Association (ATA) of America Code 35, Oxygen.

(e) Reason

This AD was prompted by reports of occurrences of incorrect usage of certain PBEs. The FAA is issuing this AD to address incorrect usage of PBEs. The unsafe condition, if not addressed, could lead to flight or cabin crewmember incapacitation, possibly affecting crewmember capability to accomplish tasks during an emergency, or resulting in fatal injury to that crewmember.

(f) Compliance

Comply with this AD within the compliance times specified, unless already done.

(g) Incorporation of Revised Procedures

(1) For transport category airplanes: Within 30 days after the effective date of this AD, revise the existing maintenance or inspection program, as applicable, to incorporate revised procedures for donning PBE P/N 15-40F-11 and P/N 15-40F-80 as specified in paragraph 3.C., “Procedure,” of Safran Aerosystems Service Bulletin 1540F-35-001, dated October 10, 2025. The incorporation of revised procedures includes replacing the pictograms identified in 3.A., “General,” of Safran Aerosystems Service Bulletin 1540F-35-001, dated October 10, 2025, with the applicable procedure specified in paragraph 3.C., “Procedure,” of Safran Aerosystems Service Bulletin 1540F-35-001, dated October 10, 2025.

(2) For aircraft certificated in any category except for transport category airplanes: Accomplish the applicable action specified in paragraph (g)(2)(i) or (ii) of this AD. The owner/operator (pilot) holding at least a private pilot certificate may perform this action for your aircraft and must enter compliance with the applicable paragraphs of this AD into the aircraft maintenance records in accordance with 14 CFR 43.9(a) and 91.417(a)(2)(v). The record must be maintained as required by 14 CFR 91.417, 121.380, or 135.439.

(i) For aircraft that must comply with 14 CFR 91.417(a)(2) or 135.439(a)(2): Within 30 days after the effective date of this AD, incorporate into maintenance records required by 14 CFR 91.417(a)(2) or 135.439(a)(2), as applicable for your aircraft, revised procedures for donning PBE P/N 15-40F-11 and P/N 15-40F-80 as specified in paragraph 3.C., “Procedure,” of Safran Aerosystems Service Bulletin 1540F-35-001, dated October 10, 2025. The incorporation of revised procedures includes replacing the pictograms identified in 3.A., “General,” of Safran Aerosystems Service Bulletin 1540F-35-001, dated October 10, 2025, with the applicable procedure specified in paragraph 3.C., “Procedure,” of Safran Aerosystems Service Bulletin 1540F-35-001, dated October 10, 2025.

(ii) For non-transport category aircraft other than those identified in paragraph (g)(2)(i) of this AD: Within 30 days after the effective date of this AD, revise your existing approved maintenance or inspection program, as applicable, by incorporating revised procedures for donning PBE P/N 15-40F-11 and P/N 15-40F-80 as specified in paragraph 3.C., “Procedure,” of Safran Aerosystems Service Bulletin 1540F-35-001, dated October 10, 2025. The incorporation of revised procedures includes replacing the pictograms identified in 3.A., “General,” of Safran Aerosystems Service Bulletin 1540F-35-001, dated October 10, 2025, with the applicable procedure specified in paragraph 3.C., “Procedure,” of Safran Aerosystems Service Bulletin 1540F-35-001, dated October 10, 2025.

(h) No Alternative Procedures

After incorporating revised procedures as required by paragraph (g) of this AD, no alternative procedures may be used unless the procedures are approved as an alternative method of compliance (AMOC) in accordance with the procedures specified in paragraph (i)(1) of this AD.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, send it to the attention of the person identified in paragraph (j) of this AD and email to: AMOC@faa.gov. Before using any approved AMOC, notify your appropriate principal inspector, or lacking a principal inspector, the manager of the responsible Flight Standards Office.

(j) Additional Information

For more information about this AD, contact Harjot Rana, Aviation Safety Engineer, FAA, 1600 Stewart Avenue, Suite 410, Westbury, NY 11590; phone: 516-228-7344; email: 9-AVS-AIR-BACO-COS@faa.gov.

(k) Material Incorporated by Reference

(1) The Director of the Federal Register approved the incorporation by reference (IBR) of the material listed in this paragraph under 5 U.S.C. 552(a) and 1 CFR part 51.

(2) You must use this material as applicable to do the actions required by this AD, unless this AD specifies otherwise.

(i) Safran Aerosystems Service Bulletin 1540F-35-001, dated October 10, 2025.

(ii) [Reserved]

(3) For Safran Aerosystems material, contact Safran Aerosystems, Customer Support & Services, Technical Publication Department, 61 Rue Pierre Curie, CS20001, 78373 Plaisir Cedex, France; phone: + 33 (0)1 61 34 23 23; email: tech-support.sao@safrangroup.com; website: https://www.safran-aerosystems.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on December 3, 2025.
Steven W. Thompson,
Acting Deputy Director, Compliance & Airworthiness Division, Aircraft Certification Service.

[FR Doc. 2025-22338 Filed 12-5-25; 4:15 pm]

BILLING CODE 4910-13-P